DEPARTMENT OF HOMELAND SECURITY

Bureau of Customs and Border Protection

Notice of Cancellation of Customs Broker Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker local permits are canceled without prejudice.

Name | Permit # | Issuing port
Evans, Wood and Mooring, Inc | 373 | Los Angeles.
MEC Transport Services Corp | 13618-P | San Francisco.
Jose A. Mena | WTH | Miami.
South Florida Customs Brokers, Inc | GQ3 | Miami.
Exel Global Logistics, Inc | 20-02-233 | New Orleans.
Exel Global Logistics, Inc | 1101-02-4079 | Philadelphia.
MEC Transport Services Corp | 93031 | Los Angeles.
Kathleen R. Carlton | 52-02-AMC | Miami.
World Commerce Services Inc | 39-754 | Chicago.
Howard Fox | MM6 | Chicago.
Janet Bernal dba
Happy Custom Brokers | 52-03-AQB | Miami.
Valerie Knapp-Banker | WFG | Miami.
J.H. Bachmann, Inc | 805 | New York.
J.H. Bachmann, Inc | 39-W82 | Chicago.
J.H. Bachmann, Inc | 01-17-008 | Savannah.

Dated: November 15, 2004.
Jayson P. Ahern,
Assistant Commissioner, Office of Field Operations.

[FR Doc. 04-26107 Filed 11-24-04; 8:45 am]

BILLING CODE 4820-02-P